DEPARTMENT OF ENERGY

Office of Energy Efficiency and Renewable Energy

Agency Information Collection Extension

AGENCY: Office of Energy and Renewable Energy, Department of Energy.

ACTION: Notice and request for comments.

SUMMARY: The Department of Energy (DOE), pursuant to the Paperwork Reduction Act of 1995, intends to extend for three years, an information collection request (ICR) with the Office of Management and Budget. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before November 20, 2007. If you anticipate difficulty in submitting comments within that period, contact the person listed below as soon as possible.

ADDRESSES: Written comments may be sent to Mr. Dan Beckley, Energy Efficiency and Renewable Energy, EE-2K, Forrestal Building, U.S. Department of Energy, 1000 Independence Ave, SW., Washington, DC 20585-1290 or by fax, 202-586-1628 or by e-mail dan.beckley@ee.doe.gov.

FOR FURTHER INFORMATION CONTACT: Requests for additional information or copies of the information collection instrument and instructions should be directed to the person in ADDRESSES.

Authority and Background: Statutory Authority: Energy Policy Act of 1992 (P.L. 102-486) and as amended in the Energy Policy Act of 2005 (Pub. L. 109-058)—42 U.S.C. 13317.

SUPPLEMENTARY INFORMATION: This ICR contains: (1) OMB No. 1910-0068, (2) ICR Title: Renewable Energy Production Incentive, (3) Purpose: To provide required information to receive consideration for payment for qualified renewable energy electricity produced in the prior fiscal year, (4) Estimated Number of Respondents: 75, (5) Estimated Total Burden Hours: 450, and (6) Number of Collections: The ICR contains 75 (one per grantee annually) information and/or recordkeeping requirements.

Issued in Washington, DC, on September 12, 2007.
Alexander A. Karsner,
Assistant Secretary, Energy Efficiency and Renewable Energy.

[FR Doc. E7-18645 Filed 9-20-07; 8:45 am]

BILLING CODE 6450-01-P